DEPARTMENT OF DEFENSE

Department of the Army

Appointment of Army Officials to the Army Emergency Relief—Board of Managers and Board of Advisors

AGENCY: Department of the Army, DoD.

ACTION: Notice.

SUMMARY: Notice is given of certain Army officials assigned to positions authorized to serve without compensation as a director or officer, or to otherwise participate in the management of the Army Emergency Relief (AER), a military welfare society.

DATES: Effective Date: December 17, 2007.

FOR FURTHER INFORMATION CONTACT: Sandra Stockel, 703-695-4296, Office of the Army General Counsel, 104 Army Pentagon, Washington, DC 20310-0104.

SUPPLEMENTARY INFORMATION: The Office of the Army General Counsel, in accordance with 10 U.S.C. 1033 and by DoD regulation (DoD 5500.7-R, Standards of Conduct, section 3-202), announces the appointment of certain Army officials to serve without compensation as a director or officer, or to otherwise participate in the management of the Army Emergency Relief, a military welfare society. Non-Federal entities in these categories must be predesignated by the Secretary of Defense. The Secretary of Defense's authority for such designations was delegated to the Department of Defense General Counsel, who has designated all of the organizations, and concurred in all of the appointments, listed below. Appointments made under this authority extend to the named officials, as well as to their successors. The Secretary of the Army has made the following appointments with the concurrence of the Department of Defense General Counsel:

To the Board of Managers of the Army Emergency Relief:

1. Vice Chief of Staff, U.S. Army.

2. Sergeant Major of the Army.

3. The Inspector General.

4. Deputy Commanding General, U.S. Army Materiel Command.

5. Deputy Chief of Staff, G-1, U.S. Army Forces Command.

6. Director, Installation Management Agency.

7. Deputy Chief of Staff, G-1, U.S. Army.

8. Deputy Commanding General/Chief of Staff, U.S. Army Training and Doctrine Command.

9. Commanding General, U.S. Army Soldier Support Institute.

10. Deputy Chief of Staff, G-1, U.S. Army Europe and Seventh Army.

11. Command Sergeant Major, U.S. Army Sergeants Major Academy.

12. Command Sergeant Major, U.S. Army Forces Command.

To the Board of Advisors:

1. Chief of Staff, Army.

2. Commander, UNC/Combined Forces Command/U.S. Forces, Korea.

3. Commander, U.S. Army Materiel Command.

4. Commanding General, U.S. Army Europe and Seventh Army.

5. Commanding General, U.S. Army Forces Command.

6. Commanding General, U.S. Army Training and Doctrine Command.

7. Commanding General, U.S. Army Pacific.

8. The Surgeon General/Commanding General, U.S. Army Medical Command.

9. Chief of Engineers/Commanding General, U.S. Army Corps of Engineers.

10. Commanding General, U.S. Army Intelligence and Security Command.

11. Commanding General, Military Surface Deployment and Distribution Command.

12. Commanding General, U.S. Army Military District of Washington/Commander, Joint Force Headquarters-National Capital Region.

13. Provost Marshal/Commanding General, U.S. Army Criminal Investigation Command.

Brenda S. Bowen,
Army Federal Register Liaison Officer.

[FR Doc. E8-5134 Filed 3-13-08; 8:45 am]

BILLING CODE 3710-08-P